NATIONAL AERONAUTICS AND SPACE ADMINISTRATION

[Notice: 21-012]

NASA Advisory Council; Aeronautics Committee; Meeting

AGENCY: National Aeronautics and Space Administration.

ACTION: Notice of meeting.

SUMMARY: In accordance with the Federal Advisory Committee Act, as amended, the National Aeronautics and Space Administration (NASA) announces a meeting of the Aeronautics Committee of the NASA Advisory Council (NAC). This meeting will be held for soliciting, from the aeronautics community and other persons, research and technical information relevant to program planning.

DATES: Wednesday, March 17, 2021, 11:30 a.m.-5:35 p.m., Eastern Time.

ADDRESSES: Virtual meeting via WebEx and toll-free telephone only.

FOR FURTHER INFORMATION CONTACT: Ms. Irma Rodriguez, Designated Federal Officer, Aeronautics Research Mission Directorate, NASA Headquarters, Washington, DC 20546, (202) 527-4826, or irma.c.rodriguez@nasa.gov.

SUPPLEMENTARY INFORMATION: As noted above, this meeting is a virtual meeting only available via WebEx and toll-free telephone. The WebEx link is: https://nasaenterprise.webex.com/nasaenterprise/j.php?MTID=m945b27b6e2488499d25a951a08b87bb0, the meeting number is 199 460 5312, and the password is vpRKbkj7@53 (case sensitive). You can also dial in by telephone toll-free: 888-769-8716 passcode: 6813159. The agenda for the meeting includes the following topics:

—Sustainability of Aviation

—Wildfire Mitigation Team

—Hypersonic Market Studies

—Innovation in the NASA Aeronautics Portfolio

It is imperative that the meeting be held on this date to accommodate the scheduling priorities of the key participants.

Patricia Rausch,
Advisory Committee Management Officer, National Aeronautics and Space Administration.

[FR Doc. 2021-03840 Filed 2-24-21; 8:45 am]

BILLING CODE 7510-13-P